DEPARTMENT OF AGRICULTURE

Office of the Secretary; Notice of Solicitation for Membership to the National Agricultural Research, Extension, Education, and Economics Advisory Board

AGENCY: Research, Education, and Economics, USDA.

ACTION: Solicitation for membership.

SUMMARY: In accordance with the Federal Advisory Committee Act, 5 U.S.C. App., the United States Department of Agriculture announces solicitation for nominations to fill a new vacancy on the National Agricultural Research, Extension, Education, and Economics Advisory Board.

DATES: Deadline for Advisory Board member nominations is September 15, 2002.

SUPPLEMENTARY INFORMATION: Section 1408 of the National Agricultural Research, Extension, and Teaching Policy Act of 1977 (7 U.S.C. 3123) is amended in the 2002 Farm Bill by adding one additional member to the National Agricultural Research, Extension, Education, and Economics Advisory Board which totals 31 members. Since the Advisory Board's inception by congressional legislation in 1996, each member has represented a specific category related to farming or ranching, food production and processing, forestry research, crop and animal science, land-grant institutions, food retailing and marketing, rural economic development, and natural resource and consumer interest groups, among many others. The additional Advisory Board member is designated as category “(R) one member representing a non-land grant college or university with a historic commitment to research in the food and agricultural sciences.” This amendment redesignates former member categories (R) through (DD) to (S) through (EE) respectively. Nominations for the new category “R” representing Non Land-Grant Colleges or Universities” are being sought. As a result of this new slot, all members currently identified by categories from letter “R” to letter “DD” will be shifted to the next letter (but will retain their same category title), as follows:

Category R. Non Land-Grant Colleges or Universities With a historic commitment to Food and Agricultural Research

Category S. Scientific Community not closely associated with Agriculture

Category T. Transportation of Food and Agricultural Products (foreign and domestic)

Category U. Food Retailing and Marketing

Category V. Food and Fiber Processors

Category W. Rural Economic Development

Category X. National Consumer Interest Group

Category Y. National Forestry Group

Category Z. National Conservation or Natural Resource Group

Category AA. Private Sector Organization involved in International Development

Category BB. An Agency of USDA lacking Research Capabilities

Category CC. Research Agency of the Federal Government (other than USDA)

Category DD. National Social Science Association

Category EE. National Organizations directly concerned with Agricultural Research, Education, and Extension

Note: Category R is the only category available for nomination at this time. Nominations for “Category R” above are being solicited from non land-grant colleges or universities that represent a wide variety of food and agricultural research interests throughout the country. In addition to a nomination letter, a nominee must fill out Form AD-755, “Advisory Committee Membership Background Information”. All nominees will be vetted before being considered for selection. The appointment to the National Agricultural Research, Extension, Education, and Economics Advisory Board will be made by the Secretary of Agriculture. Please send the nomination letter and the nominee's name, resume, and his/her completed AD-755 form to USDA, Office of the Advisory Board, Research, Education, and Economics, 1400 Independence Avenue, SW., Room 344-A, Jamie L. Whitten Building, Washington, DC 20250-2255, postmarked no later than September 15, 2002. A fax version (fax: 202-720-6199) is also highly recommended to ensure timely receipt.

FOR FURTHER INFORMATION CONTACT: Deborah Hanfman, Executive Director, National Agricultural Research, Extension, Education, and Economics Advisory Board, 1400 Independence Avenue, SW., Room 344-A, Whitten Building, Washington, DC 20250-2255. Telephone: 202-720-3684. Fax: 202-720-6199 or e-mail: smorgan@reeusda.gov. Nominations are open to all individuals without regard to race, color, religion, sex, national origin, age, mental or physical handicap, marital status, or sexual orientation. To ensure that recommendations of the Advisory Board take into account the needs of the diverse groups served by the Department, membership shall include, to the extent practicable, individuals with demonstrated ability to represent minorities, women, and persons with disabilities.

Done at Washington, DC this 30th day of July 2002.
Rodney J. Brown,
Deputy Under Secretary, Research, Education, and Economics, U.S. Department of Agriculture.

[FR Doc. 02-21068 Filed 8-19-02; 8:45 am]

BILLING CODE 3410-22-P